DEPARTMENT OF THE INTERIOR

Bureau of Land Management

[LLAK942000.L14100000.BJ0000.16X]

Notice of Filing of Plats of Survey; Alaska

AGENCY: Bureau of Land Management, Interior.

ACTION: Notice of Filing of Plats of Survey.

SUMMARY: The plats of survey of the following described lands are scheduled to be officially filed in the Bureau of Land Management (BLM), Alaska State Office, Anchorage, Alaska, 30 days from the date of publication in the Federal Register.

Survey Description: The following plats represent the survey, dependent survey, meanders and survey of the fixed and limiting boundary of a portion of the Arctic National Wildlife Refuge, Alaska.

Umiat Meridian

Tps. 5 & 6 N., Rs. 23 E., accepted July 24, 2015

Tps. 1 thru 4 N., Rs. 24 E., accepted July 24, 2015

T. 1 S., R. 25 E., accepted July 24, 2015

ADDRESSES: Bureau of Land Management, Alaska State Office, 222 W. 7th Avenue, Stop 13, Anchorage, Alaska 99513-7504.

FOR FURTHER INFORMATION CONTACT: Michael H. Schoder, BLM Alaska Chief Cadastral Surveyor, Branch of Cadastral Survey,, Alaska State Office, 222 W. 7th Avenue, Stop 13, Anchorage, Alaska 99513-7504; telephone 907-271-5481; fax: 907-271-4549; email: mschoder@blm.gov.

Persons who use a telecommunications device for the deaf (TDD) may call the Federal Information Relay Service (FIRS) at 1-800-877-8339 to contact the above individual during normal business hours. The FIRS is available 24 hours a day, seven days a week, to leave a message or question with the above individual. You will receive a reply during normal business hours.

SUPPLEMENTARY INFORMATION: The survey plats will be available for inspection in the BLM Alaska Public Information Center, Alaska State Office, 222 West 7th Avenue, Anchorage, Alaska 99513-7504; 907-271-5960. Copies may be obtained from this office for a minimum recovery fee.

If a protest against the survey is received prior to the date of official filing, the filing will be stayed pending consideration of the protest. A plat will not be officially filed until the day after all protests have been dismissed.

A person or party who wishes to protest against this survey must file a written response with the BLM Alaska State Director, stating that they wish to protest.

Before including your address, phone number, email address, or other personal identifying information in your comment, you should be aware that your entire comment—including your personal identifying information—may be made publicly available at any time. While you can ask us in your comment to withhold your personal identifying information from public review, we cannot guarantee that we will be able to do so.

A statement of reasons for a protest may be filed with the notice of protest to the State Director; the statement of reasons must be filed with the State Director within thirty days after a protest is filed.

Authority: 43 U.S.C. 3§ 53.

Dated: February 22, 2016.
Michael H. Schoder,
Chief Cadastral Surveyor, Alaska.

[FR Doc. 2016-04299 Filed 2-26-16; 8:45 am]

BILLING CODE 4310-JA-P